DEPARTMENT OF COMMERCE

Bureau of Industry and Security

Proposed Information Collection; Comment Request; Voluntary Self-Disclosure of Antiboycott Violations

AGENCY: Bureau of Industry and Security, Commerce

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 24, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Larry Hall, BIS ICB Liaison, (202) 482-4895, lhall@bis.doc.gov.

SUPPLEMENTARY INFORMATION:

I. Abstract

This collection of information supports enforcement of the Antiboycott provisions of the Bureau of Industry and Security's (BIS) Export Administration Regulations (EAR) by providing a method for industry to voluntarily self-disclose antiboycott violations. Companies wishing to voluntarily self-disclose antiboycott may submit pertinent information, as described under section 764.8 of the EAR. The information collected will allow BIS to conduct investigations of the disclosed incidents more immediately by than would be the case if BIS had to detect the violations without such disclosures.

II. Method of Collection

Submitted in paper form.

III. Data

OMB Control Number: 0694-0132.

Form Number(s): None.

Type of Review: Regular submission.

Affected Public: Business or other for-profit organizations.

Estimated Number of Respondents: 10.

Estimated Time per Response: 10 to 600 hours (depending on the size of the company).

Estimated Total Annual Burden Hours: 1,280.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 21, 2010.
Gwellnar Banks,
Management Analyst, Office of the Chief Information Officer.

[FR Doc. 2010-18161 Filed 7-23-10; 8:45 am]

BILLING CODE 3510-33-P